FEDERAL COMMUNICATIONS COMMISSION

47 CFR Part 73

[DA No. 00-2227, MM Docket No. 00-37; RM-9749]

Radio Broadcasting Services; New Richmond, WI, Coon Rapids and Moose Lake, MN

AGENCY: Federal Communications Commission.

ACTION: Final rule.

SUMMARY: This document substitutes Channel 296C2 for Channel 296C3 at New Richmond, Wisconsin, reallots Channel 296C2 to Coon Rapids, Minnesota, and modifies the license for Station WIXK-FM to specify operation on Channel 296C2 at Coon Rapids in response to a petition filed by Smith Broadcasting Company, Inc. See 65 FR 13261, March 13, 2000. The coordinates for Channel 296C2 at Coon Rapids are 45-11-42 and 93-05-14. To accommodate the allotment for Coon Rapids, we shall also substitute Channel 295A for Channel 296A at Moose Lake, Minnesota, and modify the authorization for Station KBFH to specify operation on Channel 295A at coordinates 46-27-30 and 92-39-10. Canadian concurrence has been received for the allotment of Channel 295A at Moose Lake.

DATES: Effective November 13, 2000.

FOR FURTHER INFORMATION CONTACT: Kathleen Scheuerle, Mass Media Bureau, (202) 418-2180.

SUPPLEMENTARY INFORMATION: This is a summary of the Commission's Report and Order, MM Docket No. 00-37, adopted September 20, 2000, and released September 29, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Wisconsin, is amended by removing New Richmond, Channel 296C3.

3. Section 73.202(b), the Table of FM Allotments under Minnesota, is amended by adding Coon Rapids, Channel 296C2, and by removing Channel 296A and adding Channel 295A at Moose Lake.

Federal Communications Commission.
John A. Karousos,
Chief, Allocations Branch, Policy and Rules Division, Mass Media Bureau.

[FR Doc. 00-26453 Filed 10-13-00; 8:45 am]

BILLING CODE 6712-01-P